DEPARTMENT OF TRANSPORTATION

Federal Aviation Administration

14 CFR Part 71

[Airspace Docket No. 00-ASO-37]

Proposed Amendment of Class E Airspace; Lexington, KY

AGENCY: Federal Aviation Administration (FAA), DOT.

ACTION: Proposed rule; withdrawal.

SUMMARY: This action withdraws the Notice of Proposed Rulemaking (NPRM) which proposed to amend the Class E airspace at Lexington, KY. The NPRM is being withdrawn as a result of the determination that additional Class E airspace to contain aircraft executing the Non-Directional Beacon (NDB) Runway 4 (RWY 4) Standard Instrument Approach Procedure (SIAP) developed for Blue Grass Airport is not necessary, as the SIAP is fully contained within existing Class E airspace.

DATES: This proposed rule is withdrawn as of November 9, 2000.

FOR FURTHER INFORMATION CONTACT: Nancy Shelton, Manager, Airspace Branch, Air Traffic Division, Federal Aviation Administration, Docket No. 00-ASO-37, P.O. Box 20636, Atlanta, Georgia 30320, telephone: (404) 305-5586.

SUPPLEMENTARY INFORMATION:

The Proposed Rule

On September 25, 2000, a Notice of Proposed Rulemaking was published in the Federal Register to amend Class E airspace at Lexington, KY, (65 FR 57568) to provide adequate controlled airspace to contain the NDB RWY 4 SIAP developed for Blue Grass Airport. The initial airspace review for Lexington, KY, determined the need for an airspace extension. However, a follow-up review determined the extension was not necessary.

Conclusion

In consideration of the aforementioned determination, action to amend the Lexington, KY, Class E airspace area is withdrawn.

List of Subjects in 14 CFR Part 71

Airspace, Incorporation by reference, Navigation (Air).

Withdrawal of Proposed Rule

Accordingly, pursuant to the authority delegated to me, Airspace Docket No. 00-ASO-37, as published in the Federal Register on September 25, 2000, (65 FR 57568), is hereby withdrawn.

Authority: 49 U.S.C. 106(g), 40103, 40113, 40120; E.O. 10854, 24 FR 9565, 3 CFR, 1959-1963 Comp., p. 389.

Issued in College Park, Georgia, on October 24, 2000.
Richard Biscomb,
Acting Manager, Air Traffic Division, Southern Region.

[FR Doc. 00-28848 Filed 11-8-00; 8:45 am]

BILLING CODE 4910-13-M